DEPARTMENT OF THE INTERIOR

National Park Service

Golden Gate National Recreation Area, Marin Headlands and Fort Baker Transportation Infrastructure and Management Plan, San Francisco and Marin Counties, CA; Notice of Intent To Prepare an Environmental Impact Statement

SUMMARY: In accordance with § 102 (2)(C) of the National Environmental Policy Act (42 U.S.C. 4321 et. seq.), the National Park Service (NPS) is undertaking a conservation planning and environmental impact analysis process to identify and assess potential impacts of alternative transportation management concepts and transportation infrastructure improvements for the Marin Headlands and Fort Baker area of the Golden Gate National Recreation Area. The Environmental Impact Statement (EIS) and Transportation Infrastructure and Management Plan (Plan) will assess alternative modes of travel to and within these areas with the goal of minimizing the intrusion of automobiles and encouraging alternative modes of transportation. Notice is hereby given that a public scoping process has been initiated, with the purpose of eliciting public comment regarding the full spectrum of issues and concerns, including a suitable range of alternatives, the nature and extent of potential environmental impacts, and appropriate mitigation strategies which should be addressed in the EIS process.

Background

The study focus for this Plan and EIS covers transportation issues related to the Marin Headlands and Fort Baker subregion of the Golden Gate National Recreation Area (GGNRA) just north of the Golden Gate Bridge in Marin County. The area includes Ft. Baker and the Rodeo Valley area and the Point Bonita coastline of the southern Marin Headlands, including West Ft. Baker, Ft. Cronkhite and Ft. Barry. The Tennessee Valley area is excluded from this effort.

In June 2000, the NPS began a public planning process to evaluate current and future transportation conditions in the Marin Headlands and Fort Baker subregion of the GGNRA. A transportation planning team was retained to collect data, assess current and future conditions, identify problem areas, and assist in conceptualizing alternative solutions to transportation challenges. Two documents have been completed at this time: Transportation Management Plan for the Marin Headlands and Fort Baker—Existing Conditions Report (available on the GGNRA website) and Transportation Management Plan for the Marin Headlands and Fort Baker—Conceptual Alternatives. Two other planning efforts are underway, the Marin Headlands and Fort Baker Transportation Demand Management Program Recommendations, and the Marin Headlands and Fort Baker Transportation Management Plan Report. The implementation of the Fort Baker Plan consistent with the requirements of the FEIS and approved Record of Decision are an important foundation for developing alternatives for the study area. All documents relevant to this planning effort are available for review at the GGNRA Marin Headlands Visitor Center, Building 948, Fort Barry, Sausalito, CA and at the City of Sausalito Public Library, 420 Litho Street, Sausalito, CA (or may be accessible at the GGNRA website (http:/www.nps.gov/goga/admin/transportation).

Public Process to Date

The Existing Conditions Report details existing transportation related characteristics of the study area and forms the foundation of the first stage of an 18-month planning process to develop short, medium, and long term strategies for transportation improvements. The Existing Conditions Report presents data collected and evaluations about the physical characteristics (roadway network, parking distribution, transit service, pedestrian network, bicycle use, and signage); operational characteristics (daily vehicle trips, intersection volumes and geometry, individual roadway analysis, parking utilization, and destination volumes); visitor intercept surveys; and park partner surveys. The Existing Conditions Report can be downloaded from the GGNRA website or consulted at the GGNRA Marin Headlands Visitor Center and City of Sausalito Public Library.

GGNRA developed a draft set of goals and objectives drawn from NPS documents. Three workshops were held during the summer of 2000 to assist in the development of goals and objectives of the Transportation Management Plan. All three workshops featured a presentation of the general transportation problems and opportunities and breakout sessions for workshop participants to explore a wide range of options and build consensus. Workshops were attended by NPS staff, representatives from public agencies, park partner organizations, and the general public. Based on the results of the three workshops, the draft goals and objectives were revised to reflect the areas of general consensus and concerns. The revised goals and objectives were used to evaluate strategic alternatives in the Conceptual Alternatives phase of the planning.

A second series of two workshops were held to develop conceptual transportation alternatives. The first workshop in December 2000 was attended by NPS staff, GGNRA Citizen Advisory Commission and Fort Baker Ad Hoc Implementation Committee members, public agencies, park partner organizations, and the project team. The second workshop in March 2001 presented the draft alternatives (including No Action) to the public. After the public workshops, five conceptual alternative transportation plans were identified for further evaluation in the EIS. The conceptual alternatives were developed based on the review of existing planning studies and data, supplemental data collection in 2000 and 2001, and input from the public, interested groups, and other agencies.

GGNRA anticipates that any or all of the draft alternatives will continue to be refined, and new and/or hybrid alternatives may be developed through the scoping process. The five conceptual alternatives are:

No Action

This alternative fulfills National Environmental Policy Act requirements, and represents the existing environmental conditions and provides an environmental baseline against which the potential impacts of the other alternatives may be compared. All transportation improvements associated with the approved Fort Baker Plan, including mitigation measures, would be implemented as part of this alternative.

Alternative One: Basic Improvements

This alternative proposes modest improvements that can be implemented quickly to address existing problems. Recommended changes include changes to Park signage and the information system, as well as minor bike and pedestrian improvements.

Alternative Two: Circulation Enhancements

This alternative focuses on operational changes to the Park's vehicular, bicycle, and pedestrian circulation network. The primary component of this alternative in a one-way road system in the Headlands.

Alternative Three: Parking Consolidation and Shuttle Service

This alternative proposes consolidating visitor parking and implementing a shuttle system to transport visitors throughout the Park. Visitors would be able to drive to the study area, but not within the most sensitive cultural, natural, and recreational areas. If authorized, parking fees could encourage use of alternative modes of access.

Alternative Four: Maximum Auto Reduction

This alternative seeks to reduce the number of cars in the study area to the greatest extent practicable, while still allowing the NPS and park partners to meet their maintenance needs and program goals. Expanded transit and shuttle services would enable visitors to access the Park and move between popular destinations inside the Park without an automobile. A bus transfer facility on US 101 would provide connections between bus services and Park shuttles. Most parking areas would be eliminated, prioritizing use of the Park's roads for pedestrians and bicyclists.

Major issues under evaluation in each alternative include: transportation management, preservation of natural and cultural resources, visitor experience, park partnerships, regional transportation impacts and implementation. It is also anticipated that any alternative selected would include varying degrees of road rehabilitation.

Comments and Public Scoping

In addition to the extensive public involvement undertaken to date, formal scoping for the Plan and EIS is hereby initiated. Beginning in early 2002, three public scoping meetings will be conducted in the vicinity of the study area. The location, date, and time of scoping meetings will be announced on the NPS website and via local and regional media. All interested individuals, organizations, and agencies are invited to attend any meeting to comment orally and/or provide written comments or suggestions. Comments provided previously do not need to be resubmitted, rather, comments concerning new issues to be analyzed within the EIS are encouraged. Additional comments, suggestions, or relevant information (or requests to be added to the mailing list) should send written correspondence to the attention of Marin Headlands and Fort Baker Transportation Management Plan, National Park Service, Golden Gate Recreation Area, Building 201, Fort Mason, San Francisco, CA 94123 (phone 415/461-4936). All written comments must be postmarked not later than May 1, 2002.

Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Decision Process

Availability of the draft EIS and Plan for review and written comment will be announced by Federal Register notice, as well as local and regional news media, GGNRA website, and direct mailing to the project mailing list. At this time the draft EIS is anticipated to be available for public review in late 2002. To afford further opportunity to comment on the draft EIS after it is distributed, additional public meetings will be held (dates and locations to be determined). Notice of the availability of the final EIS will likewise be published in the Federal Register. As a delegated EIS, the official responsibility for the final decision is the Regional Director, Pacific West Region. Subsequently, the official responsible for implementation will be the Superintendent, Golden Gate National Recreation Area.

Dated: December 31, 2001.
James R. Shevock,
Acting Regional Director, Pacific West.

[FR Doc. 02-8699 Filed 4-9-02; 8:45 am]

BILLING CODE 4310-70-P